DEPARTMENT OF JUSTICE

Office of Justice Programs

Agency Information Collection Activities: Proposed Collection; Comment Request

ACTION: Notice of Information Collection Under Review: Extension of a currently approved collection.

Prison Population Reports Midyear Population Counts and Advance Year-End Population Counts—National Prisoner Statistics

The Department of Justice, Office of Justice Programs, Drug Courts Program Office, has submitted the following information collection request for review and clearance in accordance with the Paperwork Reduction Act of 1995. This proposed information collection is published to obtain comments from the public and affected agencies. Comments are encouraged and will be accepted for “sixty days” until July 31, 2001.

Request written comments and suggestions from the public and affected agencies concerning the proposed collection of information. Your comments should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility and clarity of the information to be collected; and

(4) Minimize the burden of the collection of information on those who are to respond, including through the use of appropriate automated, electronic, mechanical, or other technological collection techniques or other forms of information technology; e.g., permitting electronic submission of responses.

If you have additional comments, suggestions, or additional information, especially regarding the estimated public burden and associated response time, please write to Lawrence Greenfeld, Acting Director, Bureau of Justice Statistics, 810 Seventh St. NW, Washington, DC 20531. If you need a copy of the collection instruments with instructions, or have additional information, please contact Paige Harrison at (202) 514-0809, or via facsimile at 202-307-1463.

Overview of this information collection:

(1) Type of information collection: Extension of a currently approved collection.

(2) The title of the Form/Collection: Prision Population Reports Midyear Counts; and Prison Population Report Advance Year-end Counts—National Prisoner Statistics.

(3) The agency form number and the applicable component of the Department sponsoring the collection. Form: NPS-1A; and NPS-1B. Corrections Statistics, Bureau of Justice Statistics, Office of Justice Programs, United States Department of Justice.

(4) Affected public who will be asked to respond, as well as a brief abstract: Primary: State Departments of Corrections. Others: The Federal Bureau of Prisons. For the NPS-1A form, 52 central reports (one from each State, the District of Columbia, and the Federal Bureau of Prisons) responsible for keeping records on inmates will be asked to provide information for the following categories: (a) As of June 30, the number of male and female inmates under their jurisdiction with maximum sentences of more than one year, one year or less; and unsentenced inmates; and (b) As of June 30, the number of male and female inmates in their custody with maximum sentences of more than one year, or year or less; and unsentenced inmates; and (c) As of June 30, the number of male and female inmates under their jurisdiction housed in privately-operated facility, either in state or out of state; and (d) As of June 30, the number of male and female inmates in their custody by race and Hispanic origin.

For the NPS-1B form, 52 central reporters (one from each State, the District of Columbia, and the Federal Bureau of Prisons) responsible for keeping records on inmates will be asked to provide information for the following categories: (a) As of December 31, the number of male and female inmates under their jurisdiction with maximum sentences or more than one year, one year or less; and unsentenced inmates; and (b) The number of inmates housed in county or other local authority correctional facilities, or in other state or Federal facilities on December 31, solely to ease prison crowding; and (c) As of the direct result of state prison crowding during 2001, the number of inmates released via court order, administrative procedure or statute, accelerated release, sentence reduction, emergency release, or other expedited release; and (d) The aggregate rated, operational, and design capacities, by sex, of each State's correctional facilities at year-end.

The Bureau of Justice Statistics uses this information in published reports and for the U.S. Congress, Executive Office of the President, practitioners, researchers, students, the media, and others interested in criminal justice statistics.

(5) An estimate of the total number of respondents and the amount of time needed for an average respondent to respond: 52 respondents each taking an average 3.0 hours to respond.

(6) An estimate of the total public burden (in hours) associated with the collection: 156 annual burden hours.

If additional information is required, contact: Mrs. Brenda E. Dyer, Deputy Clearance Officer, United States Department of Justice, Information Management and Security Staff, Justice Management Division, Suite 1220, 1331 Pennsylvania Ave., NW, National Place Building, Washington, DC 20530.

Dated: May 25, 2001.
Brenda E. Dyer,
Department Deputy Clearance Officer, United States Department of Justice.

[FR Doc. 01-13724 Filed 5-31-01; 8:45 am]

BILLING CODE 4410-18-M